DEPARTMENT OF THE INTERIOR

National Park Service

[NPS-WASO-NRNHL-12306; PPWOCRADI0, PCU00RP14.R50000]

National Register of Historic Places; Notification of Pending Nominations and Related Actions

Nominations for the following properties being considered for listing or related actions in the National Register were received by the National Park Service before February 2, 2013. Pursuant to § 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by March 20, 2013. Before including your address, phone number, email address, or other personal identifying information in your comment, you should be aware that your entire comment—including your personal identifying information—may be made publicly available at any time. While you can ask us in your comment to withhold your personal identifying information from public review, we cannot guarantee that we will be able to do so.

Dated: February 7, 2013.
J. Paul Loether,
Chief, National Register of Historic Places/National Historic Landmarks Program.

COLORADO

Adams County

Metzger Farm, 12080 Lowell Blvd., Westminster, 13000077

Jefferson County

Fruitdale Grade School, 10801 W. 44th Ave., Wheat Ridge, 13000078

Mesa County

Stranges Grocery, 226 Pitkin Ave., Grand Junction, 13000079

Moffat County

Lay School, (Rural School Buildings in Colorado MPS), 7 Eddy Ave., Lay, 13000080

FLORIDA

Leon County

Meridian Road, Roughly John Hancock Dr. to Georgia State Line, Tallahassee, 13000081

INDIANA

Allen County

Ninde-Mead-Farnsworth House, 734 E. State Blvd., Fort Wayne, 13000082

Dubois County

Wollenmann, Dr. Alois, House, 1150 Main St., Ferdinand, 13000083

La Porte County

Burnham, John and Isabel, House, (John Lloyd Wright in Northwest Indiana MPS) 2602 Lake Shore Dr., Long Beach, 13000085

Hoover-Timme House,(John Lloyd Wright in Northwest Indiana MPS) 2304 Hazeltine Dr., Long Beach, 13000086

Jackson, Lowell E. and Paula G., House, (John Lloyd Wright in Northwest Indiana MPS) 2935 Ridge Rd., Long Beach, 13000087

Jaworowski, George and Adele, House, (John Lloyd Wright in Northwest Indiana MPS) 3501 Lake Shore Dr., Duneland Beach, 13000088

Lake County

Keilman, Francis P. House, 9260 Patterson St., St. John, 13000084

Marion County

Gaseteria, Inc., 1031 E. Washington St., Indianapolis, 13000089

Noble County

Luckey Hospital, Jct. of US 33 & IN 109, Wolf Lake, 13000090

St. Joseph County

Haven Hubbard Home, 31895 Chicago Trail, New Carlisle, 13000091

Wabash County

Halderman-Van Buskirk Farmstead, 5653 N. 700 W., Roann, 13000092

Roann Historic District, Roughly bounded by IN 16, West, Ohio & Beamer Sts., Roann, 13000093

LOUISIANA

St. Bernard Parish

Pecan Grove Plantation House, (Louisiana's French Creole Architecture MPS) 10 Pecan Grove Ln., Meraux, 13000094

MASSACHUSETTS

Barnstable County

Old North Cemetery, US 6 & Aldrich Rd., Truro, 13000095

Pine Grove Cemetery, Cemetery Rd., Truro, 13000096

MONTANA

Cascade County

Great Falls High School Historic District, 1900 2nd Ave., S., Great Falls, 13000097

NEW YORK

Erie County

CLARA BROWN (sloop), 32 Fuhrman Rd., Buffalo, 13000098

Ulster County

Appeldoorn Farm, (Rochester MPS) 4938 US 209, Accord, 13000099

United States Lace Curtain Mills, 165 Cornell St., Kingston, 13000100

WISCONSIN

Clark County

Omaha Hotel, 317 W. 7th St., Neillsville, 13000101

WYOMING

Fremont County

Lookingbill, Helen, Site, Address Restricted, Dubois, 13000102

[FR Doc. 2013-04976 Filed 3-4-13; 8:45 am]

BILLING CODE 4312-51-P